DEPARTMENT OF ENERGY

Federal Energy Regulatory Commission

Combined Notice of Filings #1

Take notice that the Commission received the following electric rate filings:

Docket Numbers: ER10-1355-001.

Applicants: Southern California Edison Company.

Description: Supplement to December 17, 2012 Southern California Edison Company triennial market power analysis.

Filed Date: 7/16/13.

Accession Number: 20130716-5169.

Comments Due: 5 p.m. ET 8/6/13.

Docket Numbers: ER13-538-002.

Applicants: Consumers Energy Company.

Description: Consumers Energy Company—MBR Compliance to be effective 7/16/2013.

Filed Date: 7/16/13.

Accession Number: 20130716-5084.

Comments Due: 5 p.m. ET 8/6/13.

Docket Numbers: ER13-573-003.

Applicants: CMS Energy Resource Management Company.

Description: CMS ERM Company—MBR—Compliance to be effective 7/16/2013.

Filed Date: 7/16/13.

Accession Number: 20130716-5107.

Comments Due: 5 p.m. ET 8/6/13.

Docket Numbers: ER13-1312-000.

Applicants: Massachusetts Electric Company.

Description: Refund Report Regarding Interconnection Agreement with Seaman Energy LLC to be effective N/A.

Filed Date: 7/16/13.

Accession Number: 20130716-5163.

Comments Due: 5 p.m. ET 8/6/13.

Docket Numbers: ER13-1980-000.

Applicants: Golden Spread Electric Cooperative, Inc.

Description: Revised Wholesale Power Contracts Filing to be effective 9/13/2013.

Filed Date: 7/15/13.

Accession Number: 20130715-5241.

Comments Due: 5 p.m. ET 8/5/13.

Docket Numbers: ER13-1981-000.

Applicants: PJM Interconnection, L.L.C.

Description: Queue Positions U2-041 & V3-028; Original SA Nos. 3598; 3599; 3600 and 3601 to be effective 6/13/2013.

Filed Date: 7/15/13.

Accession Number: 20130715-5260.

Comments Due: 5 p.m. ET 8/5/13.

Docket Numbers: ER13-1982-000.

Applicants: E Minus LLC.

Description: Tariff 51 Cancellation to be effective 7/16/2013.

Filed Date: 7/16/13.

Accession Number: 20130716-5002.

Comments Due: 5 p.m. ET 8/6/13.

Docket Numbers: ER13-1983-000.

Applicants: PPL Montour, LLC.

Description: Notice of Cancellation of Power Sales Service Agreement of PPL Montour, LLC.

Filed Date: 7/15/13.

Accession Number: 20130715-5270.

Comments Due: 5 p.m. ET 8/5/13.

Docket Numbers: ER13-1984-000.

Applicants: Westar Energy, Inc.

Description: KEPCo, Revision to Attachment A-Delivery Points, (June 1, 2013) to be effective 6/1/2013.

Filed Date: 7/16/13.

Accession Number: 20130716-5083.

Comments Due: 5 p.m. ET 8/6/13.

Docket Numbers: ER13-1985-000.

Applicants: Deseret Generation & Transmission Co-operative, Inc.

Description: 2013 RIA Annual Update to be effective 1/1/2013.

Filed Date: 7/16/13.

Accession Number: 20130716-5167.

Comments Due: 5 p.m. ET 8/6/13.

Take notice that the Commission received the following foreign utility company status filings:

Docket Numbers: FC13-10-000.

Applicants: FortisBC Holdings Inc., FortisBC Energy Inc., FortisBC Energy (Vancouver Island) Inc., FortisBC Energy (Whistler) Inc., FortisBC Huntingdon Inc., FortisBC Alternative Energy Services Inc.

Description: FUCO Self-Certification of FortisBC Holdings Inc. and its Subsidiaries.

Filed Date: 7/15/13.

Accession Number: 20130715-5314.

Comments Due: 5 p.m. ET 8/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 16, 2013.
Nathaniel J. Davis, Sr.,
Deputy Secretary.

[FR Doc. 2013-17607 Filed 7-22-13; 8:45 am]

BILLING CODE 6717-01-P